NATIONAL SCIENCE FOUNDATION

Advisory Committee for Geosciences; Committee of Visitors; Notice of Meeting

In accordance with the Federal Advisory Committee Act (Pub. L. 92-463, as amended), the National Science Foundation announces the following meeting.

Name: Advisory Committee for Geosciences (1755).

Date and Time: August 1-3, 2000; 8 a.m. to 5 p.m. each day.

Place: Room 770; National Science Foundation, 4201 Wilson Blvd., Arlington, VA 22230.

Type of Meeting: Part-Open (See Agenda, below).

Contact Person: Dr. Clifford Jacobs, Section Head, UCAR and Lower Atmospheric Facilities Oversight Section, Room 775, Division of Atmospheric Sciences, National Science Foundation, 4201 Wilson Blvd., Arlington, VA 22230, Telephone: (703) 306-1521.

Purpose of Meeting: To carry out Committee of Visitors (COV) review, including program evaluation, GPRA assessments, and access to privileged materials.

Agenda

Closed: August 1 from 1 p.m.-5 p.m. and August 2 from 8 a.m.-12 p.m. To review the merit review processes covering funding decisions made during the immediately preceding three fiscal years of the UCAR and Lower Atmospheric Facilities Oversight Section.

Open: August 1 from 8 a.m.-12 p.m.; August 2 from 1 p.m.-5 p.m.; and August 3 from 8 a.m.-5 p.m.—To assess the results of NSF program investments in the UCAR and Lower Atmospheric Facilities Oversight Section. This shall involve a discussion and review of results focused on NSF and grantee outputs and related outcomes achieved or realized during the preceding three fiscal years. These results may be based on NSF grants or other investments made in earlier years.

Reason for Closing: During the closed session, the Committee will be reviewing proposal actions that will include privileged intellectual property and personal information that could harm individuals if they are disclosed. If discussions were open to the public, these matters that are exempt under 5 U.S.C.. 552b(c), (4) and (6) of the Government in the Sunshine Act would be improperly disclosed.

Dated: July 11, 2000.
Karen J. York,
Committee Management Officer.

[FR Doc. 00-17974 Filed 7-14-00; 8:45 am]

BILLING CODE 7555-01-M